NUCLEAR REGULATORY COMMISSION

[NRC-2016-0146]

NRC Vision and Strategy for Non-Light Water Reactor Mission Readiness

AGENCY: Nuclear Regulatory Commission.

ACTION: Draft document; request for comment.

SUMMARY: The U.S. Nuclear Regulatory Commission (NRC) is requesting public comment on a draft document, “NRC Vision and Strategy: Safely Achieving Effective and Efficient Non-Light Water Reactor Mission Readiness,” Revision 1. The draft document provides the NRC's vision, mission, strategic goal, and strategic objectives for non-light water reactors (non-LWRs). Supporting strategies and contributing actions necessary to reach the objectives are also described in the draft document. The NRC encourages and welcomes public comments that can help it achieve mission readiness for these types of reactors.

DATES: Submit comments by September 19, 2016. Comments received after this date will be considered if it is practical to do so, but the Commission is able to ensure consideration only for comments received on or before this date.

ADDRESSES: You may submit comments by any of the following methods:

• Federal Rulemaking Web site: Go to http://www.regulations.gov and search for Docket ID NRC-2016-0146. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Michael S. Jones, Office of New Reactors, telephone: 301-415-0189, email: Michael.Jones2@nrc.gov, U.S. Nuclear Regulatory Commission, Washington, DC 20555-0001.

SUPPLEMENTARY INFORMATION:

I. Obtaining Information and Submitting Comments

A. Obtaining Information

Please refer to Docket ID NRC-2016-0146 when contacting the NRC about the availability of information for this action. You may obtain publicly-available information related to this action by any of the following methods:

• Federal rulemaking Web site: Go to http://www.regulations.gov and search for Docket ID NRC-2016-0146.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The NRC's draft document is available in ADAMS under Accession No. ML16139A812.

• NRC's PDR: You may examine and purchase copies of public documents at the NRC's PDR, Room O1-F21, One White Flint North, 11555 Rockville Pike, Rockville, Maryland 20852.

B. Submitting Comments

Please include Docket ID NRC-2016-0146 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC's mission is to license and regulate the Nation's civilian use of radioactive materials to protect public health and safety, promote the common defense and security, and protect the environment. As the NRC prepares to review and regulate a new generation of non-LWRs, a vision and strategy has been developed to assure the NRC's readiness to efficiently and effectively conduct its mission for these technologies. The NRC has prepared a draft document to guide these mission readiness preparations and is now seeking comments from the public so that the agency may benefit from a wide range of stakeholder input as the non-LWR vision and strategy is finalized.

The domestic and international non-LWR industries have changed significantly since the last U.S. commercial non-LWR was shut down in 1989 (Fort St. Vrain, a high-temperature gas—cooled reactor). The NRC now operates in an environment where potential non-LWR applicants have a wide and varied range of technical, business, and regulatory experience. Additionally, the non-LWR industry has become globalized, and commercial non-LWR plants are being designed, constructed, and operated abroad. This international activity provides opportunities for information exchanges between the NRC and its international counterparts about non-LWR operating experience, international codes and standards, and computer modeling techniques and programs.

The NRC could review and license a non-LWR design today, if needed. The agency needs to be effective and efficient as it conducts its safety, security, and environmental protection mission, without imposing unnecessary regulatory burden. This requires the NRC to consider the effects of a more dynamic domestic environment and a globalized non-LWR industry. Furthermore, the NRC recognizes the benefits of having a flexible regulatory framework, allowing potential applicants to select a best-fit path towards regulatory reviews and decisions. Examples of these flexibilities are described in the draft document.

The vision and strategy described in the draft document, once executed, will achieve the goal of assuring the NRC's readiness to effectively and efficiently review and regulate non-LWRs, while still protecting public health and safety, promoting the common defense and security, and protecting the environment. The strategy has three strategic objectives: Enhancing technical readiness, optimizing regulatory readiness, and optimizing communication. The steps needed to reach the readiness target are described in a series of supporting strategies and contributing activities, to be executed during near-term, mid-term, and long-term timeframes. Example schedules that help inform the vision and strategy implementation with potential non-LWR development, application, construction, and operation timeframes are also discussed in the draft document.

The NRC's approach under this non-LWR vision and strategy consists of two phases. Phase 1 is the conceptual planning phase used to lay out the vision and strategy, gather public feedback, and finalize the NRC's approach. Phase 2 includes detailed internal work planning efforts and task execution. Both phases began in 2016. Phase 1 is expected to be completed in 2016, and Phase 2 has a target completion date of not later than 2025.

The NRC's principles of good regulation—independence, openness, efficiency, clarity, and reliability—are embodied in this vision and strategy. While the NRC does not promote any particular reactor technology, its responsibilities as a regulator include working effectively with all stakeholders, clearly communicating its requirements, and providing regulatory information and feedback in a timely manner. Achieving this non-LWR readiness goal should also provide significant regulatory certainty to the non-LWR industry, potential applicants, and other stakeholders.

The NRC encourages all interested parties to comment on the draft non-LWR vision and strategy document, particularly on the near-term non-LWR regulatory review options. Stakeholder feedback will be valuable in helping the NRC develop a final non-LWR vision and strategy that has the benefit of considering the many views of the public and the regulated industry. The NRC will consider the comments submitted and may use them, as appropriate, in the preparation of the final document; however, the NRC does not anticipate responding to individual comments.

Dated at Rockville, Maryland, this 14th day of July 2016.
For the Nuclear Regulatory Commission.
Anna Bradford,
Chief, Advanced Reactor and Policy Branch, Division of Engineering, Infrastructure, and Advanced Reactors, Office of New Reactors.

[FR Doc. 2016-17327 Filed 7-20-16; 8:45 am]

BILLING CODE 7590-01-P